DEPARTMENT OF TRANSPORTATION

Federal Highway Administration

Environmental Impact Statement: City of Coronado, CA

AGENCY: Federal Highway Administration (FHWA), DOT.

ACTION: Notice of Intent.

SUMMARY: The FHWA is issuing this notice to advise the public that an Environmental Impact Statement (EIS) and Environmental Impact Report (EIR) will be prepared for a project in San Diego, California, known as the State Route (SR) 75/282 Transportation Corridor Project.

FOR FURTHER INFORMATION CONTACT: Steve Healow, Federal Highway Administration, 650 Capitol Mall Suite 4-100, Sacramento, California 95814, Telephone: (916) 498-5849 or Jason A. Reynolds, California Department of Transportation, 4050 Taylor Street San Diego, CA 92110, Telephone (619) 688-0291.

SUPPLEMENTARY INFORMATION: The FHWA is issuing this notice to advise the public that an EIS will be prepared for proposed improvements to the State Routes 75 and 282 (SR 75/282) corridor between the San Diego-Coronado Bridge and the Naval Air Station North Island (NASNI) within the City of Coronado, CA. SR 75/282 serves Coronado residents, visitors and NASNI, a military airport and aircraft carrier berthing facility. The project will address current and forecast traffic congestion within the SR75/282 Transportation Corridor. The study area along the corridor varies in width, but is narrowest at the bridge and widest where Third Street and Fourth Street intersect Orange Avenue.

Alternatives under consideration include (1) Taking no action; (2) Transportation Systems Management (TSM)/Transportation Demand Management (TDM); (3) Third Street/Fourth Street couplet with grade separations at Orange Avenue; (4) Twin cell cut-and-cover tunnel with refined west portal layout and early daylight alignment compatible with NASNI Third Street Main Gate; (5A) Twin bore tunnel with refined west portal layout for improved compatibility with NASNI Third Street Main Gate; and (5B) Twin bore restricted access tunnel with entry control gate at the east portal and west portal with access directly onto McCain Boulevard at NASNI. Alternatives under consideration incorporated into and studied with the various build alternatives will be design variations of grade and alignment. Property acquisitions and utility relocations may be necessary.

To ensure that the full range of issues related to this proposed action are addressed and all significant issues identified, comments and suggestions are invited from all interested parties. Comments or questions concerning this proposed action and the EIS should be directed to the contacts provided above. Key environmental issues to be studied include, but are not limited to, air quality, noise, traffic, socioeconomic impacts, business relocations, hazardous materials, biological, water quality, coastal zone, flood plain, wetlands, visual impacts, impacts to open space and cultural resources and parking. Other key issues may arise at scoping meetings or during the environmental review process. Resources subject to Section 106 of the National Historic Preservation Act may be affected. Section 4(f) resources may also be affected. Letters describing the proposed action and soliciting comments will be sent to appropriate Federal, State and local agencies, and to private organizations and citizens who have previously expressed, or are known to have an interest in, this proposal.

The draft EIS will be available for public and agency review prior to the public hearing.

(Catalog of Federal Domestic Assistance Program Number 20.205, Highway Planning and Construction. The regulations implementing Executive Order 12372 regarding intergovernmental consultation on Federal programs and activities apply to this program.)

Issued on: January 10, 2007.
Steve Healow,
Federal Highway Administration, Sacramento, California.

[FR Doc. E7-491 Filed 1-16-07; 8:45 am]

BILLING CODE 4910-22-P